ENVIRONMENTAL PROTECTION AGENCY

40 CFR Part 52

[EPA-R05-OAR-2010-0566; FRL-9900-18-Region 5]

Approval and Promulgation of Air Quality Implementation Plans; Michigan

AGENCY: Environmental Protection Agency (EPA).

ACTION: Proposed rule.

SUMMARY: On February 6, 2013, EPA proposed to approve revisions to the State of Michigan's Clean Air Act State Implementation Plan (SIP) that Michigan had submitted on March 24, 2009. Michigan's submittal included revisions to Part 1, Definitions; Part 2, Air Use Approval; and Part 19, New Source Review for Sources Impacting Nonattainment Areas, of the Michigan rules. EPA is revising the February 6, 2013, proposed approval to announce that we will not take action on the changes to Part 2 Air Use Approval rules and of the Part 2 revision submittals on November 12, 1993, May 16, 1996, April 3, 1998, September 2, 2003, and March 24, 2009, at this time. EPA is proposing to rescind Michigan's rule 336.1220 from its SIP. Michigan included this request to rescind this portion of the rule in its March 24, 2009, submittal as part of the Part 19 New Source Review rule approval. The rescission of rule 336.1220 will eliminate having differing nonattainment rules in the State SIP.

DATES: Comments must be received on or before September 18, 2013.

ADDRESSES: Submit your comments, identified by Docket ID No. EPA-R05-OAR-2010-0566, by one of the following methods:

1. www.regulations.gov: Follow the on-line instructions for submitting comments.

2. Email: damico.genevieve@epa.gov.

3. Fax: (312) 886-0968.

4. Mail: Genevieve Damico, Chief, Air Permits Section, Air Programs Branch (AR-18J), U.S. Environmental Protection Agency, 77 West Jackson Boulevard, Chicago, Illinois 60604.

5. Hand Delivery: Genevieve Damico, Chief, Air Permits Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2010-0566. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Constantine Blathras, Environmental Engineer, at (312) 886-0671 before visiting the Region 5 office.

FOR FURTHER INFORMATION CONTACT: Constantine Blathras, Environmental Engineer, Air Permits, Air Programs Branch (AR-18J), Environmental Protection Agency, Region 5, 77 West Jackson Boulevard, Chicago, Illinois 60604, (312) 886-0671, Blathras.constantine@epa.gov.

SUPPLEMENTARY INFORMATION: Throughout this document whenever “we,” “us,” or “our” is used, we mean EPA. This supplementary information section is arranged as follows:

I. What should I consider as I prepare my comments for EPA?

II. What action is EPA taking?

III. Statutory and Executive Order Reviews.

I. What should I consider as I prepare my comments for EPA?

When submitting comments, remember to:

1. Identify the rulemaking by docket number and other identifying information (subject heading, Federal Register date and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What action is EPA taking?

On February 6, 2013, EPA proposed to approve revisions to Part 1, Definitions; Part 2, Air Use Approval; and Part 19, New Source Review for Sources Impacting Nonattainment Areas, into the State of Michigan's SIP (78 FR 8485). With this notice, EPA is withdrawing our proposed action to approve the revisions to Michigan Part 2, Air Use Approval, into the Michigan SIP. The proposed approval of the Michigan Part 1 and Part 19 rules remains as proposed in the February 6, 2013, rulemaking action.

EPA is also proposing to rescind Michigan rule 336.1220 from the Michigan SIP. On March 6, 2013, Michigan submitted a letter to EPA regarding their March 24, 2009, submittal and its request to rescind rule 336.1220. This rule contains Michigan's current permitting rule for major sources of air pollution located in nonattainment areas. This rule is being rescinded and replaced with Part 19 which contains rules reflecting current Federal permitting requirements for major sources of air pollution in nonattainment areas. The new rules reflect all recent changes to Federal nonattainment area New Source Review rules that were promulgated by EPA. On December 31, 2002, EPA published revisions to the Federal Prevention of Significant Deterioration and nonattainment area New Source Review regulations in 40 CFR Parts 51 and 52 (67 FR 80186). These revisions are commonly referred to as “NSR Reform” regulations and became effective on March 3, 2003. EPA is now soliciting comments on the proposed rescission of rule 336.1220 from the Michigan SIP.

III. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Carbon monoxide, Incorporation by reference, Lead, Nitrogen dioxide, Ozone, Particulate matter, Reporting and recordkeeping requirements, Sulfur oxides, Volatile organic compounds.

Dated: August 7, 2013.
Susan Hedman,
Regional Administrator, Region 5.

[FR Doc. 2013-20157 Filed 8-16-13; 8:45 am]

BILLING CODE 6560-50-P